DEPARTMENT OF ENERGY

Federal Energy Regulatory Commission

Notice of New Docket Prefix

September 26, 2000.

Notice is hereby given that a new docket prefix has been established to accommodate compliance with the Commission's regulations at 18 CFR 35.34(c) and (h), which were implemented by Order No. 2000. Those regulations require that all public utilities that own, operate, or control electric transmission facilities in interstate commerce, must file either a proposal to participate in a Regional Transmission Organization (RTO) or an explanation of why they are not proposing to participate in an RTO. These filings must be made no later than October 16, 2000 or January 16, 2001, depending on which category the utility is in.

In order to properly docket and manage this type of case and assess Commission resources applicable to this type of work, it is necessary to establish a new docket prefix for this filing requirement. The new docket prefix will be RTFY-NNNN-000, where the FY stands for fiscal year in which the filing is made and the NNNN is a sequential number. For example, the first filing of a utility (or group of utilities) to comply with Order No. 2000, made in fiscal year 2001, will be assigned RT01-1-000, the second will be RT01-2-000, etc.

Public utilities making Order No. 2000 compliance filings are requested to put the “RT” docket prefix in the docket area of their filings.

David P. Boergers,
Secretary.

[FR Doc. 00-25181 Filed 9-29-00; 8:45 am]

BILLING CODE 6717-01-M